DEPARTMENT OF TRANSPORTATION

Federal Aviation Administration

14 CFR Part 39

[Docket No. 2003-CE-40-AD]

RIN 2120-AA64

Airworthiness Directives; Cessna Aircraft Company 120, 140, 140A, 150, F150, 170, 172, F172, FR172, P172D, 175, 177, 180, 182, 185, A185E, 190, 195, 206, P206, U206, TP206, TU206, 207, T207, 210, T210, 336, 337, and T337 Series Airplanes

AGENCY: Federal Aviation Administration (FAA), DOT.

ACTION: Notice of proposed rulemaking (NPRM).

SUMMARY: The FAA proposes to supersede Airworthiness Directive (AD) 86-26-04, which applies to certain Cessna Aircraft Company (Cessna) 120, 140, 140A, 150, F150, 170, 172, F172, FR172, P172D, 175, 177, 180, 182, 185, A185E, 190, 195, 205, 205A, 206, P206, P206E, TP206A, TU206, TU206E, U206, U206E, 207, T207, 210, T210, 336, 337, and T337 series airplanes. AD 86-26-04 currently requires you to inspect and, if necessary, modify the pilot/co-pilot upper shoulder harness adjusters that have certain Cessna accessory kits incorporated. This proposed AD is the result of reports that additional airplanes have the same unsafe condition and the manufacturer revised the service information to add these airplanes and correct the part number of the shoulder harness adjusters. Consequently, this proposed AD would retain the actions of AD 86-26-04, add additional airplanes to the applicability section of this proposed AD, and propose using the revised service information. We are issuing this proposed AD to prevent slippage of the pilot/co-pilot shoulder harness, which could result in failure of the shoulder harness to maintain proper belt length adjustment and tension. This failure could result in pilot/co-pilot injury.

DATES: We must receive any comments on this proposed AD by January 12, 2004.

ADDRESSES: Use one of the following to submit comments on this proposed AD:

• By mail: FAA, Central Region, Office of the Regional Counsel, Attention: Rules Docket No. 2003-CE-40-AD, 901 Locust, Room 506, Kansas City, Missouri 64106.

• By fax: (816) 329-3771.

• By e-mail: 9-ACE-7-Docket@faa.gov. Comments sent electronically must contain “Docket No. 2003-CE-40-AD” in the subject line. If you send comments electronically as attached electronic files, the files must be formatted in Microsoft Word 97 for Windows or ASCII.

You may get the service information identified in this proposed AD from Cessna Aircraft Company, Product Support P.O. Box 7706, Wichita, Kansas 67277; telephone: (316) 517-5800; facsimile: (316) 942-9006.

You may view the AD docket at FAA, Central Region, Office of the Regional Counsel, Attention: Rules Docket No. 2003-CE-40-AD, 901 Locust, Room 506, Kansas City, Missouri 64106. Office hours are 8 a.m. to 4 p.m., Monday through Friday, except Federal holidays.

FOR FURTHER INFORMATION CONTACT: Gary D. Park, Aerospace Engineer, FAA, Wichita Aircraft Certification Office, 1801 Airport Road, Room 100, Mid-Continent Airport, Wichita, Kansas 67209; telephone: (316) 946-4123; facsimile: (316) 946-4107.

SUPPLEMENTARY INFORMATION:

Comments Invited

How do I comment on this proposed AD? We invite you to submit any written relevant data, views, or arguments regarding this proposal. Send your comments to an address listed under ADDRESSES. Include “AD Docket No. 2003-CE-40-AD” in the subject line of your comments. If you want us to acknowledge receipt of your mailed comments, send us a self-addressed, stamped postcard with the docket number written on it. We will date-stamp your postcard and mail it back to you.

Are there any specific portions of this proposed AD I should pay attention to? We specifically invite comments on the overall regulatory, economic, environmental, and energy aspects of this proposed AD. If you contact us through a nonwritten communication and that contact relates to a substantive part of this proposed AD, we will summarize the contact and place the summary in the docket. We will consider all comments received by the closing date and may amend this proposed AD in light of those comments and contacts.

Discussion

Has FAA taken any action to this point? Cessna designed add-on shoulder harness assembly accessory kits for the pilot/co-pilot seats for certain Cessna airplanes. These shoulder harness assemblies incorporate a retainer spring in the adjuster on the upper and lower shoulder harness. The retainer spring may have been inadvertently installed on the belt friction pin. This installation of the spring in the upper shoulder harness adjuster will not allow the belt webbing to lock in place.

This caused us to issue AD 86-26-04, Amendment 39-5503 (52 FR 520, January 7, 1987). AD 86-26-04 currently requires the following on certain Cessna 120, 140, 140A, 150, F150, 170, 172, F172, FR172, P172D, 175, 177, 180, 182, 185, A185E, 190, 195, 205, 205A, 206, P206, P206E, TP206A, TU206, TU206E, U206, U206E, 207, T207, 210, T210, 336, 337, and T337 series airplanes:

• Inspecting the upper shoulder harness adjuster for the presence of a retainer spring;

• If retainer spring is found, removing the retainer spring; and

• Stamping out the -401 identification number.

What has happened since AD 86-26-04 to initiate this proposed action? We have received reports that additional airplanes have the same unsafe condition. Cessna has revised the related service information to include these additional airplanes.

Cessna has also revised the related service information to correct the reference to the part number (P/N) of the shoulder harness adjusters. The P/N referenced is referenced as 44030-401 in Cessna Single Engine Service Bulletin SEB86-8 and Cessna Multi-engine Service Bulletin MEB86-22, both dated November 21, 1986. The correct P/N is 443030-401.

What are the consequences if the condition is not corrected? If not corrected, the shoulder harness could fail to maintain proper belt length adjustment and tension. This failure could result in pilot/co-pilot injury.

Is there service information that applies to this subject? Cessna has issued Single Engine Service Bulletin SEB86-8, Revision 1, and Cessna Multi-engine Service Bulletin MEB86-22, Revision 1, both dated July 28, 2003.

What are the provisions of this service information? These service bulletins include procedures for:

• Inspecting the upper shoulder harness adjuster for the presence of a retainer spring;

• If retainer spring is found, removing the retainer spring; and

• Stamping out the -401 identification number.

FAA's Determination and Requirements of This Proposed AD

What has FAA decided? We have evaluated all pertinent information and identified an unsafe condition that is likely to exist or develop on other products of this same type design. Therefore, we are proposing AD action.

What would this proposed AD require? This proposed AD would supersede AD 86-26-04 with a new AD that would incorporate the actions in the previously-referenced service bulletin. This proposed AD would apply to certain Cessna Models 120, 140, 140A, 150, F150, 170, 172, F172, FR172, P172D, 175, 177, 180, 182, 185, A185E, 190, 195, 206, P206, U206, TP206, TU206, 207, T207, 210, T210, 336, 337, and T337 series airplanes.

Are there differences between the service information and this AD? Yes. The service information requires removal of the retainer springs on both the upper and lower adjuster. However, this AD only addresses the upper shoulder harness adjuster.

The installation of the springs in the lower adjuster does not constitute an unsafe condition. Therefore, we are not proposing a requirement to remove the spring from the lower adjuster.

How does the revision to 14 CFR part 39 affect this proposed AD? On July 10, 2002, we published a new version of 14 CFR part 39 (67 FR 47997, July 22, 2002), which governs FAA's AD system. This regulation now includes material that relates to altered products, special flight permits, and alternative methods of compliance. This material previously was included in each individual AD. Since this material is included in 14 CFR part 39, we will not include it in future AD actions.

Costs of Compliance

How many airplanes would this proposed AD impact? We estimate that this proposed AD affects 75,329 airplanes in the U.S. registry.

What would be the cost impact of this proposed AD on owners/operators of the affected airplanes? We estimate the following costs to accomplish this proposed inspection:

Labor cost | Parts cost | Total cost per airplane | Total cost on U.S. operators
1 workhour × $65 per hour = $65 | No parts required | $65 | $65 × 75,329 = $4,896,385.

We estimate the following costs to accomplish any necessary modification that would be required based on the results of this proposed inspection. We have no way of determining the number of airplanes that may need this modification:

Labor cost | Parts cost | Total cost per airplane
1 workhour × $65 per hour = $65 | No parts required | $65

What is the difference between the cost impact of this proposed AD and the cost impact of AD 86-26-04? The difference is the addition of 26 airplanes to the applicability section of this proposed AD. There is no difference in cost to perform the proposed inspection and the proposed modification.

Regulatory Findings

Would this proposed AD impact various entities? We have determined that this proposed AD would not have federalism implications under Executive Order 13132. This proposed AD would not have a substantial direct effect on the States, on the relationship between the national Government and the States, or on the distribution of power and responsibilities among the various levels of government.

Would this proposed AD involve a significant rule or regulatory action? For the reasons discussed above, I certify that this proposed AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this proposed AD and placed it in the AD Docket. You may get a copy of this summary by sending a request to us at the address listed under ADDRESSES. Include “AD Docket No. 2003-CE-40-AD” in your request.

List of Subjects in 14 CFR Part 39

Air transportation, Aircraft, Aviation safety, Safety.

The Proposed Amendment

Accordingly, under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 86-26-04, Amendment 39-5503 (52 FR 520, January 7, 1987), and by adding a new AD to read as follows:

Cessna Aircraft Company: Docket No. 2003-CE-40-AD.

When Is the Last Date I Can Submit Comments on This Proposed AD?

(a) We must receive comments on this proposed airworthiness directive (AD) by January 12, 2004.

What Other ADs Are Affected by This Action?

(b) This AD supersedes AD 86-26-04, Amendment 39-5503.

What Airplanes Are Affected by This AD?

(c) This AD affects the following airplane models and serial numbers that are certificated in any category and incorporate one of the Cessna accessory kits specified in paragraph (d) of this AD.

Model | Serial No.
(1) 120 | 8000 through 15075
(2) 140 | 8000 through 15075
(3) 140A | 15200 through 15724
(4) 150 | 617, 17001 through 17999, and 59001 through 59018
(5) 150A | 628 and 15059019 through 15059350
(6) 150B | 15059351 through 15059700
(7) 150C | 15059701 through 15060087
(8) 150D | 15060088 through 15060772
(9) 150E | 644 and 15060773 through 15061532
(10) 150F | 15061533 through 15064532
(11) 150G | 15064533 through 15064969 and 15064971 through 15067198
(12) 150H | 649 and 15067199 through 15069308
(13) 150J | 15069309 through 15071128
(14) 150K | 15071129 through 15072003
(15) 170 | 18000 through 18729
(16) 170A | 18730 through 19400 and 19402 through 20266
(17) 170B | 20267 through 20999 and 25000 through 27169
(18) 172 | 610, 612, 615, 28000 through 29999, 36000 through 36999, and 46001 through 46754
(19) 172A | 622, 625, and 46755 through 47746
(20) 172B | 630 and 17247747 through 17248734
(21) 172C | 17248735 through 17249544
(22) 172D | 17249545 through 17250572
(23) 172E | 639 and 17250573 through 17251822
(24) 172F | 17251823 through 17253392
(25) 172G | 17253393 through 17254892
(26) 172H | 638, 17254893 through 17256492, and 17256494 through 17256512
(27) 172I | 17256513 through 17257161
(28) 172K | 17257162 through 17258486 and 17258487 through 17259223
(29) P172D | P17257120 through P17257188
(30) 175 | 626, 640, 28700A, and 55001 through 56238
(31) 175A | 619 and 56239 through 56777
(32) 175B | 17556778 through 17557002
(33) 175C | 17557003 through 17557119
(34) 177 | 661, 17700001, and 17700003 through 17701164
(35) 177A | 17701165 through 17701370
(36) 177B | 17701371 through 17701471 and 17701473 through 17701530
(37) 180 | 604, 614, 30000 through 32661
(38) 180A | 32662 through 32999 and 50001 through 50355
(39) 180B | 50356 through 50661
(40) 180C | 624 and 50662 through 50911
(41) 180D | 18050912 through 18051063
(42) 180E | 18051064 through 18051183
(43) 180F | 18051184 through 18051312
(44) 180G | 18051313 through 18051445
(45) 180H | 18051446 through 18052175
(46) 182 | 613 and 33000 through 33842
(47) 182A | 33843 through 34753, 34755 through 34999, and 51001 through 51556
(48) 182B | 34754, 51557 through 51622, and 51624 through 52358
(49) 182C | 631 and 52359 through 53007
(50) 182D | 51623 and 18253008 through 18253598
(51) 182E | 18253599 through 18254423
(52) 182F | 18254424 through 18255058
(53) 182G | 18255059 through 18255844
(54) 182H | 634 and 18255846 through 18256684
(55) 182J | 18256685 through 18257625
(56) 182K | 18255845, 18257626 through 18257698, and 18257700 through 18258505
(57) 182L | 18258506 through 18259305
(58) 182M | 662, 18257699, and 18259306 through 18260055
(59) 182N | 18260056 through 18260445
(60) 185 | 632 and 185-0001 through 185-0237
(61) 185A | 185-0238 through 185-0512
(62) 185B | 185-0513 through 185-0653
(63) 185C | 185-0654 through 185-0776
(64) 185D | 185-0777 through 185-0967
(65) 185E | 185-0968 through 185-1149
(66) A185E | 185-0968 through 185-1599 and 18501600 through 18501832
(67) 190 | 7001 through 7999 and 16000 through 16183
(68) 195 | 7001 through 7999 and 16000 through 16183
(69) 206 | 206-0001 through 206-0275
(70) P206 | P206-0001 through P206-0160
(71) P206A | P206-0161 through P206-0306
(72) P206B | P206-0307 through P206-0419
(73) P206C | P206-0420 through P206-0519
(74) P206D | P206-0520 through P206-0603
(75) P206E | P20600604 through P20600647
(76) U206 | U206-0276 through U206-0437
(77) U206A | U206-0438 through U206-0656
(78) U206B | U206-0657 through U206-0914
(79) U206C | U206-0915 through U206-1234
(80) U206D | U206-1235 through U206-1444 and U20601445 through U20601587
(81) TP206A | P206-0161 through P206-0306
(82) TP206B | P206-0307 through P206-0419
(83) TP206C | P206-0420 through P206-0519
(84) TP206D | P206-0520 through P206-0603
(85) TP206E | P20600604 through P20600647
(86) TU206A | U206-0487 through U206-0656
(87) TU206B | U206-0657 through U206-0914
(88) TU206C | U206-0915 through U206-1234
(89) TU206D | U206-1235 through U206-1444 and U20601455 through U20601587
(90) 207 | 20700001 through 20700190
(91) T207 | 20700001 through 20700190
(92) 210 | 618 and 57001 through 57575
(93) 210-5(205) | 641, 648, and 205-0001 through 205-0480
(94) 210-5(205A) | 205-0481 through 205-0577
(95) 210A | 616 and 21057576 through 21057840
(96) 210B | 21057841 through 21058085
(97) 210C | 21058086 through 21058139 and 21058141 through 21058220
(98) 210D | 21058221 through 21058510
(99) 210E | 21058511 through 21058715
(100) 210F | 21058716 through 21058818
(101) 210G | 21058819 through 21058936
(102) 210H | 21058937 through 21059061
(103) 210J | 21059062 through 21059199
(104) 210K | 21059200 through 21059351
(105) T210F | T210-0001 through T210-0197
(106) T210G | T210-0198 through T210-0307
(107) T210H | T210-0308 through T210-0392
(108) T210J | T210-0393 through T210-0454
(109) T210K | 21059200 through 21059351
(110) F150G | F150-0068 through F150-0219
(111) F150H | F150-0220 through F150-0389
(112) F150J | F150-0390 through F150-0529
(113) F150K | F15000530 through F15000658
(114) F172D | F172-0001 through F172-0018
(115) F172E | F172-0019 through F172-0085
(116) F172F | F172-0086 through F172-0179
(117) F172G | F172-0180 through F172-0319
(118) F172H | F172-0320 through F172-0654 and F17200655 through F17200754
(119) FR172E | FR17200001 through FR17200060
(120) FR172F | FR17200061 through FR17200145
(121) FR172G | FR17200146 through FR17200225
(122) 336 | 633, 636, and 336-0001 through 336-0195
(123) 337 | 647 and 337-0002 through 337-0239
(124) 337A | 337-0240 through 337-0305, 337-0307 through 337-0469, and 337-0471 through 337-0525
(125) 337B | 656, 337-0001, 337-0470, 337-0526 through 337-0568, and 337-0570 through 337-0755
(126) 337C | 337-0756 through 337-0978
(127) 337D | 337-0979 through 337-1193
(128) 337E | 33701194 through 33701316
(129) T337B | 337-0001, 337-0470, 337-0526 through 337-0568, and 37-0570 through 337-0755
(130) T337C | 337-0756 through 337-0978
(131) T337D | 337-0979 through 337-1193
(132) T337E | 33701194 through 33701316

What Cessna Accessory Kits Are Affected by This AD?

(d) The following is a list of the affected Cessna accessory kits:

Cessna Accessory Kit

AK140-10

AK150-7

AK150-121

AK170-10

AK177-10

AK182-75

AK195-10

AK210-77

AK210-93

AK210-171

AK210-172

AK210-173

AK210-174

AK336-32

AK336-36

AK336-103

What Is the Unsafe Condition Presented in This AD?

(e) The actions specified in this AD are intended to prevent slippage of the pilot/co-pilot shoulder harness, which could result in failure of the shoulder harness to maintain proper belt length adjustment and tension. This failure could result in pilot/co-pilot injury.

What Must I Do to Address This Problem?

(f) To address this problem, you must do the following, unless already done:

Actions | Compliance | Procedures
(1) Inspect only the upper shoulder harness adjuster (part number (P/N) 443030-401) for the presence of a retainer spring | Within the next 25 hours time-in-service (TIS) after the effective date of this AD | Follow Cessna Single Engine Service Bulletin SEB86-8, Revision 1, and Cessna Multi-engine Service Bulletin MEB86-22, Revision 1, both dated July 28, 2003.
(2) If a retainer spring is found during the inspection of the upper shoulder harness adjuster (P/N 443030-401) required in paragraph (f)(1) of this AD: | (i) remove the spring by cutting each side; and | (ii) stamp out the -401 identification number. | Prior to further flight after the effective date of this AD | Follow Cessna Single Engine Service Bulletin SEB86-8, Revision 1, and Cessna Multi-engine Service Bulletin MEB86-22, Revision 1, both dated July 28, 2003.
(3) If a retainer spring is not found during the inspection of the upper shoulder harness adjuster (P/N 443030-401) required in paragraph (f)(1) of this AD, make an entry in the airplane log book showing compliance with this AD | Prior to further flight after the effective date of this AD | Follow Cessna Single Engine Service Bulletin SEB86-8, Revision 1, and Cessna Multi-engine Service Bulletin MEB86-22, Revision 1, both dated July 28, 2003.
(4) Only incorporate Cessna Accessory Kits identified in paragraph (d) of this AD that have been inspected and modified in accordance with paragraphs (f)(1), (f)(2), (f)(2)(i), and (f)(2)(ii) of this AD | As of the effective date of this AD | Follow Cessna Single Engine Service Bulletin SEB86-8, Revision 1, and Cessna Multi-engine Service Bulletin MEB86-22, Revision 1, both dated July 28, 2003.

(g) If you did the actions of this AD using Cessna Single Engine Service Bulletin SEB86-8 and Cessna Multi-engine Service Bulletin MEB86-22, both dated November 21, 1986, no further action is required as long as you used shoulder harness adjuster, P/N 443030-401.

May I Request an Alternative Method of Compliance?

(h) You may request a different method of compliance or a different compliance time for this AD by following the procedures in 14 CFR 39.13. Send your request to the Manager, Wichita Aircraft Certification Office (ACO), FAA. For information on any already approved alternative methods of compliance, contact Gary D. Park, Aerospace Engineer, FAA, Wichita Aircraft Certification Office, 1801 Airport Road, Room 100, Mid-Continent Airport, Wichita, Kansas 67209; telephone: (316) 946-4123; facsimile: (316) 946-4107.

May I Get Copies of the Documents Referenced in This AD?

(i) You may get copies of the documents referenced in this AD from Cessna Aircraft Company, Product Support P.O. Box 7706, Wichita, Kansas 67277; telephone: (316) 517-5800; facsimile: (316) 942-9006. You may view these documents at FAA, Central Region, Office of the Regional Counsel, 901 Locust, Room 506, Kansas City, Missouri 64106.

Issued in Kansas City, Missouri, on November 6, 2003.
Scott L. Sedgwick,
Acting Manager, Small Airplane Directorate, Aircraft Certification Service.

[FR Doc. 03-28428 Filed 11-12-03; 8:45 am]

BILLING CODE 4910-13-P